DEPARTMENT OF TRANSPORTATION

Federal Transit Administration

Notice of Intent To Prepare an Environmental Impact Statement for the Operations and Maintenance Facility South Project, King County, Washington

AGENCY: Federal Transit Administration (FTA), Department of Transportation (DOT).

ACTION: Notice of intent to prepare an environmental impact statement (EIS).

SUMMARY: The Federal Transit Administration (FTA), as lead Federal agency, and the Central Puget Sound Regional Transit Authority (Sound Transit), as local project sponsor and joint lead agency, intend to prepare an EIS pursuant to the National Environmental Policy Act (NEPA) to evaluate the benefits and impacts of the proposed Operations and Maintenance Facility (OMF) South project in King County, Washington.

DATES: Comments should be submitted by August 18, 2023. FTA will consider comments received after that date to the extent practicable. FTA will consider all comments received during this NEPA scoping period and those previously submitted during the Washington State Environmental Policy Act (SEPA) scoping process. Commenters who previously provided SEPA scoping comments do not need to resubmit those same comments for consideration under NEPA, but may elect to do so.

ADDRESSES: Comments related to the NEPA review of this project must be sent to: OMF South Project, (c/o Erin Green, South Corridor Environmental Manager) Sound Transit, 401 S Jackson Street, Seattle, WA 98104-2826, or by email to OMFSouthScoping@soundtransit.org.

FOR FURTHER INFORMATION CONTACT: For FTA: Justin Zweifel, FTA Environmental Protection Specialist, (206) 220-7538 or Justin.Zweifel@dot.gov. For Sound Transit: Erin Green, Sound Transit Environmental Manager, South Corridor, (206) 398-5464 or Erin.Green@soundtransit.org.

SUPPLEMENTARY INFORMATION:

Background. In 2016, voters approved funding for Sound Transit 3 (ST3), Sound Transit's regional system plan that includes 62 new miles of light rail that would contribute to a 116-mile regional system in King, Pierce, and Snohomish counties. The OMF South project would provide a facility in the South Corridor of the system to receive, test, commission, store, maintain, and deploy vehicles for the system-wide light rail expansion. The project would support the addition of light rail vehicles (LRVs) as part of the ST3 system expansion by providing needed maintenance and storage capacity.

FTA has determined that the project will be evaluated as a major project as defined in 23 U.S.C. 139(a)(7). FTA and Sound Transit (the Agencies) will prepare the EIS in accordance with NEPA, FTA environmental regulations, and SEPA. Sound Transit has evaluated alternatives and environmental impacts and has proposed mitigation measures in a 2021 SEPA Draft EIS. In anticipation of federalizing the project, Sound Transit considered the relevant Federal statutes that are required for NEPA compliance, and the SEPA Draft EIS included environmental analysis in accordance with Federal statutes, regulations, and executive orders. Sound Transit also conducted an extensive public engagement process under SEPA, including early scoping in 2018, an extended scoping period in 2019, and an extended Draft EIS public comment period in 2021.

Pursuant to 23 CFR 771.111 (Early coordination, public involvement, and project development), the information and results produced by or in support of the transportation planning process may be incorporated into environmental review documents in accordance with 23 U.S.C. 139(f), 40 CFR 1500-1508, or 23 CFR 450, as applicable. Pursuant to these provisions, Federal agencies are required to reduce duplication to the maximum extent practicable between the evaluation of alternatives under NEPA and the environmental review process carried out under state law. Additionally, Federal agencies may, to the maximum extent practicable, adopt or incorporate by reference studies, analyses, and decisions resulting from metropolitan or statewide transportation planning under 49 U.S.C. 5303 and 5304, respectively. Consistent with these provisions, as well as the provisions in 23 U.S.C. 139(f) and 23 CFR 450.318, FTA will incorporate or use, as appropriate, planning products or the results from transportation planning studies, including the purpose and need for the action, the range of reasonable alternatives, environmental analyses, and proposed mitigation actions resulting from metropolitan or statewide transportation planning. The Agencies will coordinate to issue a joint NEPA Draft EIS and SEPA Supplemental Draft EIS. After receiving and considering public comments, the Agencies will complete a joint NEPA and SEPA Final EIS.

This Notice initiates formal scoping for the EIS under NEPA, provides information on the nature of the proposed transit project, invites participation in the EIS process, provides information about the purpose and need for the proposed project, includes general information on the range of alternatives being considered for evaluation in the EIS, and identifies potential environmental effects to be considered. FTA has determined that the project is sufficiently developed to allow for meaningful public comment and requires an EIS. The scoping period is available for the public to provide comments on the alternatives, information, and analyses relevant to the proposed action. Information about the proposed project is available on the project website at https://www.soundtransit.org/system-expansion/operations-maintenance-facility-south, or by contacting the project line at (206) 398-5453.

The Proposed Project. Sound Transit is proposing to construct a light rail operations and maintenance facility in the South Corridor of its Link light rail system to support the expansion of light rail transit. The OMF South project is part of the ST3 Plan of regional transit system investments, funding for which voters approved in the region in 2016. The ST3 Plan is available on Sound Transit's website at: http://www.soundtransit3.org/document-library.

Purpose of and Need for the Project. The Purpose and Need statement establishes the basis for developing and evaluating a range of reasonable alternatives for environmental review and assists with the identification of a Preferred Alternative. The OMF South project supports Sound Transit's Link light rail system expansion and the related increase in its light rail vehicle fleet and daily operations. The project includes measures to preserve and promote a healthy and sustainable environment by minimizing adverse impacts to people and the natural and built environments.

The purpose of the project is to:

• Provide a facility with the capacity to store, maintain, and deploy vehicles associated with system-wide light rail expansion.

• Support efficient and reliable light rail service that minimizes system operating costs.

• Support and connect efficiently to the regional system and be technically and financially feasible to build, operate, and maintain, consistent with Sound Transit's ST3 Plan and its Regional Transit Long-Range Plan.

The project is needed because:

• The current regional system lacks a facility with sufficient capacity and suitable location to support the efficient and reliable long-term operations for system-wide light rail expansion, including the next phase of expansion in King and Pierce counties.

• New light rail maintenance and storage capacity needs to be available with sufficient time to accept delivery of and commission new vehicles to meet fleet expansion needs and to store existing vehicles while the new vehicles are tested and prepared.

Proposed Alternatives. Alternatives being evaluated include a No-Build alternative and three build alternatives to develop an OMF in the South Corridor of Sound Transit's Link light rail system. The no-build alternative serves as a baseline against which to assess the impacts of the build alternatives and includes the existing transportation system plus the transportation improvements included in the Puget Sound Regional Council's Transportation Improvement Program. The build alternatives were developed through a local planning process including a Regional Transit Long-Range Plan, a regional system plan of transit investments (ST3), a SEPA early scoping and alternatives development process, a SEPA scoping process, and a SEPA Draft EIS. Through that process, Sound Transit narrowed the build alternatives from 24 to 3, and, following the public comment period for the SEPA Draft EIS, the Sound Transit Board identified the South 336th Street Alternative as the preferred alternative. The three build alternatives and the no-build alternative will continue to be evaluated under NEPA and SEPA. Results of the local planning process and other background technical reports are available at Sound Transit's office located at 401 S Jackson Street, Seattle, WA 98104-2826, on the project website: https://www.soundtransit.org/system-expansion/operations-maintenance-facility-south, or by contacting the project line at (206) 398-5453.

The build alternatives include an OMF building, maintenance of way building, Link system-wide storage building, storage tracks, parking, training tracks, and yard areas. Each alternative also includes lead track to allow for light rail vehicles to access the mainline tracks.

• South 336th Street Alternative: The Preferred Alternative under the SEPA is an approximately 65-acre site in the city of Federal Way mainly between S 336th Street and S 341st Place and between I-5 and SR 99. It includes approximately 1.4 miles of mainline tracks connecting it to the Federal Way Link Extension terminus. These tracks would serve as future mainline for the Tacoma Dome Link Extension (TDLE) project that would extend light rail south to Tacoma. The Preferred Alternative also includes a test track to prepare new vehicles for service that would run parallel and on the east side of the mainline tracks.

• South 344th Street Alternative: The South 344th Street Alternative is an approximately 65-acre site in the city of Federal Way between S 336th Street and S 344th Street and between I-5 and 18th Place S. It includes approximately 1.8 miles of mainline track connecting it to Federal Way Link Extension terminus. These tracks would serve as future mainline for the TDLE project that would extend light rail south to Tacoma. The South 344th Street Alternative also includes a test track to prepare new vehicles for service that would run parallel and on the east side of the mainline tracks.

• Midway Landfill Alternative: The Midway Landfill Alternative is an approximately 68-acre site in the city of Kent between S 246th Street and S 252nd Street and between I-5 and SR 99. Due to its location along the Federal Way Link Extension line, the Midway Landfill does not include mainline tracks or a test track.

Summary of Expected Impacts. Areas of investigation are documented in the OMF South SEPA Draft EIS and include transportation, land use and consistency with applicable plans, land acquisition and displacements, socioeconomic impacts, park and recreation resources, historic and cultural resources, environmental justice, visual and aesthetic qualities, air quality, noise and vibration, hazardous materials, energy use, water resources, floodplains, and ecosystems, including threatened and endangered species. The SEPA Draft EIS also evaluated the impacts of short-term construction, long-term operations, and indirect and cumulative conditions and proposed measures to avoid, minimize, or mitigate significant adverse impacts. These environmental impacts, considerations, and mitigation proposals (including avoidance and minimization) will be carried forward in NEPA.

Anticipated Permits and Other Authorizations. In accordance with FTA policy and regulations, the Agencies will comply with all Federal environmental laws, regulations, and executive orders applicable to the proposed project during the environmental review process. In anticipation of federalizing the project, the SEPA Draft EIS contains an appendix that addresses Federal requirements usually integrated with FTA NEPA reviews, such as the National Historic Preservation Act and Section 4(f) requirements.

The Agencies anticipate the following Federal approvals, permits, decisions, consultations, and reviews by other agencies necessary to implement the project:

• Environmental Protection Agency approval under Section 401 of the Clean Water Act.

• Federal Highway Administration approval of air space lease and use of interstate right-of-way.

• U.S. Army Corps of Engineers permit under Section 404 of the Clean Water Act.

• Bonneville Power Administration NEPA decision for reconfiguration of towers and power lines.

• Federal Highway Administration NEPA decision for air space lease and use of right-of-way.

• U.S. Fish and Wildlife Service/National Oceanic and Atmospheric Administration consultation under Section 7 of the Endangered Species Act.

• Washington State Historic Preservation Officer consultation under Section 106 of the National Historic Preservation Act.

• Environmental Protection Agency NEPA review under the Comprehensive Environmental Response, Compensation, and Liability Act.

The Agencies will prepare a Coordination Plan for agency, Tribe, and public involvement that reflects the coordination to date and defines next steps for the remainder of the environmental review. Interested parties will be able to review the Coordination Plan at the project website: https://www.soundtransit.org/system-expansion/operations-maintenance-facility-south. It will identify the project's coordination approach and structure, detail the major milestones for agency and public involvement, and include a list of interested Tribes and agencies.

Schedule for Decision-Making Process and Description of the Scoping Process. The Agencies intend to complete the EIS for the project within two years, measured from the date of the issuance of this notice to the date a record of decision (ROD) is signed. As described above under Dates, FTA will accept comments on the NEPA review of the EIS through August 18, 2023. The Environmental Protection Agency will announce the availability of a NEPA Draft EIS in the Federal Register and via other outlets, such as the project website (https://www.soundtransit.org/system-expansion/operations-maintenance-facility-south). The Agencies anticipate the NEPA Draft EIS will be available for a 45-day public comment period by Fall 2023. The Agencies will consider substantive comments timely submitted during the public comment period and then anticipate publishing a Final EIS by Spring 2024. The Sound Transit Board will consider the Final EIS and comments received, and then select the project to be built. The Agencies anticipate that all Federal environmental authorization decisions for the construction of the project will be completed within a reasonable period following issuance of the ROD.

Under 23 U.S.C. 139, FTA is required to combine the Final EIS and ROD if practicable. The Agencies have determined that a combined FEIS/ROD is not practicable for this project because SEPA requires a waiting period between the FEIS and decisions about the project per Washington Administrative Code 197-11-460(5).

Request for Identification of Potential Alternatives, Information, and Analyses. The Agencies invite all State, Tribal, local governments, and the public to comment on potential alternatives, information, and analyses to be considered in the EIS.

Susan Fletcher,
Acting Regional Administrator, FTA Region X.

[FR Doc. 2023-15251 Filed 7-18-23; 8:45 am]

BILLING CODE 4910-57-P